SMALL BUSINESS ADMINISTRATION

[Disaster Declaration #15098 and #15099]

Nevada Disaster Number NV-00048

AGENCY: U.S. Small Business Administration.

ACTION: Amendment 1.

SUMMARY: This is an amendment of the Presidential declaration of a major disaster for Public Assistance Only for the State of NEVADA (FEMA-4307-DR), dated 03/27/2017.

Incident: Severe Winter Storms, Flooding, and Mudslides.

Incident Period: 02/05/2017 through 02/22/2017.

Effective Date: 05/12/2017.

Physical Loan Application Deadline Date: 05/26/2017.

Economic Injury (EIDL) Loan Application Deadline Date: 12/27/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for Private Non-Profit organizations in the State of NEVADA, dated 03/27/2017, is hereby amended to include the following areas as adversely affected by the disaster.

Primary Counties: Churchill, Storey

All other information in the original declaration remains unchanged.

(Catalog of Federal Domestic Assistance Number 59008)

James E. Rivera,
Associate Administrator for Disaster Assistance.

[FR Doc. 2017-10152 Filed 5-18-17; 8:45 am]

BILLING CODE 8025-01-P